DEPARTMENT OF LABOR

Employment Standards Administration

Proposed Collection; Comment Request

ACTION: Notice.

SUMMARY: The Department of Labor (DOL), as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood and the impact of collection requirements on respondents can be properly assessed. Currently, the Employment Standards Administration is soliciting comments concerning the proposed collection: Applications to Employ Special Industrial Homeworkers and Workers with Disabilities (Forms WH-2, WH-226 and WH-226A). A copy of the proposed information collection request can be obtained by contacting the office listed below in the addresses section of this Notice.

DATES: Written comments must be submitted to the office listed in the addresses section below on or before July 20, 2004.

ADDRESSES: Ms. Hazel M. Bell, U.S. Department of Labor, 200 Constitution Ave., NW., Room S-3201, Washington, DC 20210, telephone (202) 693-0418, fax (202) 693-1451, E-mail bell.hazel@dol.gov. Please use only one method of transmission for comments (mail, fax or E-mail).

SUPPLEMENTARY INFORMATION

I. Background

Fair Labor Standards Act (FLSA) section 11(d) authorizes the Secretary of Labor to regulate, restrict or prohibit industrial homework as necessary to prevent evasion of the minimum wage requirement of the Act. DOL restricts homework in seven industries (knitted outerwear, women's apparel, jewelry manufacturing, gloves and mittens, button and buckle manufacturing, handkerchief manufacturing and embroideries) to those employers who obtain certificates.

In order to prevent curtailment of employment opportunities for persons with disabilities, FLSA section 14(c) allows employers to apply for a certificate from DOL authorizing payment of less than the Federal minimum wage to workers with impaired productivity because of disabilities.

Employers in a restricted industry use Form WH-2, when requesting permission to employ an individual industrial homeworker who is unable to work in a factory setting because he or she (a) is unable to adjust to such work because of age, or physical or mental disability; (b) is unable to leave home because his or her presence is required to care for an invalid in the home or (c) will be engaged in industrial homework under the supervision of a State Vocational Rehabilitation Agency.

Employers use Form WH-226 and the supplemental data Form WH-226A when requesting authorization to employ workers with disabilities in competitive employment, in work centers and in hospitals or institutions at subminimum wages that are commensurate with wages paid to workers with no disabilities. School officials also use this form to request authorization for groups of students with disabilities to participate in school work experience programs. State vocational rehabilitation counselors and Veterans Administration officials use the form to grant or extend temporary authorization to employ on-the-job trainees with disabilities.

This information collection is currently approved for use through November 30, 2004.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

DOL seeks approval for the extension of this information collection in order to ensure effective administration of agency programs regarding the employment of homeworkers in restricted industries and payment of subminimum wages to workers with disabilities.

Type of Review: Extension.

Agency: Employment Standards Administration.

Title: Applications to Employ Special Industrial Homeworkers and Workers with Disabilities.

OMB Number: 1215-0005.

Agency Number: WH-2, WH-226, WH-226A.

Affected Public: Business or other for-profit, Individuals or household, Not-for-profit institutions, Farms, State, Local or Tribal Government.

Total Respondents: 4,550.

Total Responses: 16,550.

Form | Number of respondents | Number of responses | Time per response (in minutes) | Burden hours
WH-2 | 50 | 50 | 30 | 25
WH-226 | 4,500 | 4,500 | 45 | 3,375
WH-226A | 4,500 | 12,000 | 45 | 9,000

Frequency: Annually and Biennially.

Estimated Total Burden Hours: 12,400.

Total Burden Cost (capital/startup): $0.

Total Burden Cost (operating/maintenance): $1,820.

Comments submitted in response to this notice will be summarized and/or included in the request for Office of Management and Budget approval of the information collection request; they will also become a matter of public record.

Dated: May 17, 2004.
Sue R. Blumenthal,
Acting Chief, Branch of Management Review and Internal Control, Division of Financial Management, Office of Management, Administration and Planning, Employment Standards Administration.

[FR Doc. 04-11495 Filed 5-20-04; 8:45 am]

BILLING CODE 4510-27-P